DEPARTMENT OF THE TREASURY

Office of Foreign Assets Control

Identification of Thirty Entities as Governemnt of Libya Entities Pursuant to Executive Order 13566

AGENCY: Office of Foreign Assets Control, Treasury.

ACTION: Notice.

SUMMARY: The Treasury Department's Office of Foreign Assets Control (“OFAC”) is publishing the names of 16 entities identified on March 15, 2011 and 14 entities identified on March 22, 2011, as persons whose property and interests in property are blocked pursuant to Section 2 of Executive Order 13566 of February 25, 2011, “Blocking Property and Prohibiting Certain Transactions Related to Libya.”

DATES: The identification by the Director of OFAC of the 16 and 14 entities pursuant to Section 2 of Executive Order 13566 of February 25, 2011, went into effect on March 15, 2011, and March 22, 2011, respectively.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On February 25, 2011, the President issued Executive Order 13566, “Blocking Property and Prohibiting Certain Transactions Related to Libya” (the “Order”) pursuant to, inter alia, the International Emergency Economic Powers Act (50 U.S.C. 1701-06).

Section 2 of the Order blocks all property and interests in property that are in the United States, that come within the United States, or that are or come within the possession or control of any United States person, including any overseas branch, of the Government of Libya, its agencies, instrumentalities, and controlled entities, and the Central Bank of Libya.

On March 15, 2011 and March 22, 2011, the Director of OFAC, identified for sanctions, pursuant to Section 2 of the Order, thirty entities whose property and interests in property are blocked. The listing for entities is as follows:

Entities

March 15, 2011 Identifications

1. AFRIQIYAH AIRWAYS, 1st Floor, Waha Building, 273, Omar Almokhtar Street, Ali Khalifa Zaidi Street, Tripoli, Libya; 273 Omar Al Mokhtar Street, P.O. Box 83428, Tripoli, Libya; E mail Address afriqiyah@afriqiyah.aero; alt. E-mail Address cargo@afriqiyah.aero; Website www.afriqiyah.aero; Telephone No. (218) 214442622; Telephone No. (218) 214444408; Telephone No. (218) 214444409; Telephone No. (218) 214449734; Telephone No. (218) 214449743; Fax No. (218) 213341181; Fax No. (218) 214449128; Fax No. (218) 213614102 [LIBYA2]

2. AGRICULTURAL BANK (a.k.a. AL MASRAF AL ZIRAE; a.k.a. LIBYAN AGRICULTURAL BANK), El Ghayran Area, Ganzor El Sharqya, P.O. Box 1100, Tripoli, Libya; Al Jumhouria Street, East Junzour, Al Gheran, Tripoli, Libya; E-mail Address agbank@agribank-ly.org; SWIFT/BIC AGRULYLT (Libya); Telephone No. (218) 214870586; Telephone No. (218) 214870714; Telephone No. (218) 214870745; Telephone No. (218) 213338366; Telephone No. (218) 213331533; Telephone No. (218) 213333541; Telephone No. (218) 213333544; Telephone No. (218) 213333543; Telephone No. (218) 213333542; Fax No. (218) 214870747; Fax No. (218) 214870767; Fax No. (218) 214870777; Fax No. (218) 213330927; Fax No. (218) 213333545 [LIBYA2]

3. AL WAFA BANK (a.k.a. MASSRAF AL WAFA), Dat El Imad Administrative Complex, Al Thawra Street, P.O. Box 84212, Tripoli, Libya; E-mail Address info@alwafabank.com; Telephone No. (218) 214815123; Fax No. (218) 214801247 [LIBYA2]

4. FIRST GULF LIBYAN BANK, The 7th of November Street, P.O. Box 81200, Tripoli, Libya; SWIFT/BIC FGLBLYLT (Libya); Telephone No. (218) 213622262; Fax No. (218) 213622205 [LIBYA2]

5. GUMHOURIA BANK (f.k.a. AL OUMMA BANK; a.k.a. JAMAHIRIYA BANK; f.k.a. MASRAF AL GUMHOURIA; f.k.a. UMMA BANK), Umar Al Mukhtar Street, Tripoli, Libya; Al Shohadaa Building, Mehammed El Magrif, P.O. Box 3224, Tripoli, Libya; SWIFT/BIC JAMBLYLT (Libya); Telephone No. (218) 21333553; Telephone No. (218) 21333555; Telephone No. (218) 213332888; Telephone No. (218) 214442541; Fax No. (218) 213333793; Fax No. (218) 214442476 [LIBYA2]

6. LIBYA AFRICA INVESTMENT PORTFOLIO (a.k.a. LAIP; a.k.a. LAP), Jumhoria Street, P.O. Box 91330, Tarabulus, Tripoli, Libya; E-mail Address info@lap.ly; Web site http://www.lap.ly [LIBYA2]

7. LIBYAN AFRICAN INVESTMENT COMPANY (a.k.a. LAAICO; a.k.a. LAICO; a.k.a. LIBYAN ARAB AFRICAN INVESTMENT COMPANY; a.k.a. THE LAICO GROUP), Janzoor (neighborhood), Tripoli, Libya; P.O. Box 81370, Tarabulus, Tripoli, Libya; E-mail Address info@laaico.com; Web site http://www.laaico.com [LIBYA2]

8. LIBYAN ARAB FOREIGN BANK LIMITED (a.k.a. LAFB; a.k.a. LIBYAN ARAB FOREIGN BANK; a.k.a. LIBYAN FOREIGN BANK), P.O. Box 2542 Tower 2, Dat Al-Imad Complex, Tripoli, Libya; Dat Elemad Administrative Complex, Tower No. 2, Tripoli, Libya; Web site http://www.lafbank.com; alt. Web site http://www.lfbank.ly; Telephone No. (218) 213350160; Telephone No. (218) 213350161; Telephone No. (218) 213350155; Fax No. (218) 213350164 [LIBYA2]

9. LIBYAN ARAB FOREIGN INVESTMENT COMPANY (a.k.a. LAFICO; a.k.a. LIBYAN FOREIGN INVESTMENT COMPANY), Libyan Arab Foreign Investment Company Building, Al Tharwa Street, P.O. Box 4538, Gharyan Area, Tarabulus, Tripoli, Libya; E-mail Address info@lafico.ly; Web site http://www.lafico.ly [LIBYA2]

10. LIBYAN INVESTMENT AUTHORITY (a.k.a. LIA; a.k.a. LIBYAN INVESTMENT CORPORATION), Office No. 99, 9th Floor, Bourj Al Fatih Tower, Tripoli, Libya; E-mail Address info@libyaninvestment.com; Web site http://www.lia.ly; Telephone No. (218) 213351034; Telephone No. (218) 213362091; Telephone No. (218) 213362085; Fax No. (218) 213351035; Fax No. (218) 213362082; Fax No. (218) 213362084 [LIBYA2]

11. NATIONAL BANKING CORPORATION, Al Dhahra Area, Near Qasr Libya Hotel, P. O. Box 80930, Tripoli, Libya; SWIFT/BIC NBCLLYLT (Libya); Telephone No. (218) 214444524; Telephone No. (218) 214444870; Telephone No. (218) 21902524510; Telephone No. (218) 214444267; Fax No. (218) 213330896 [LIBYA2]

12. NATIONAL COMMERCIAL BANK (a.k.a. BANK WATANI; a.k.a. NATIONAL COMMERCIAL BANK SAL), Orouba Street, Al Baida, P.O. Box 543, Tripoli, Libya; SWIFT/BIC LNCBLYLT (Libya); Telephone No. (218) 213612267; Telephone No. (218) 213612429; Telephone No. (218) 213610306; Telephone No. (218) 213617977; Telephone No. (218) 214441168; Telephone No. (218) 214446019; Fax No. (218) 213610306; Fax No. (218) 214448878 [LIBYA2]

13. NATIONAL OIL CORPORATION (a.k.a. LIBYA NATIONAL OIL CORPORATION; a.k.a. LNOC; a.k.a. NATIONAL OIL CORPORATION—LIBYA; a.k.a. NOC), National Oil Corporation Building, Bashir Al Saadawi Street, P.O. Box 2655, Tarabulus, Tripoli, Libya [LIBYA2]

14. SAHARA BANK, 1st of September Street No. 10, P.O. Box 270, Tripoli, Libya; SWIFT/BIC SABKLYLT (Libya); Telephone No. (218) 214448066; Telephone No. (218) 213330724; Telephone No. (218) 213339390; Telephone No. (218) 214443061; Fax No. (218) 213337922; Fax No. (218) 213330068 [LIBYA2]

15. SAVINGS AND REAL ESTATE INVESTMENT BANK (a.k.a. EDDEKHAR BANK), Al Sreem Street—Abu Miliana Street, Al Masera Al Kobra Street, P.O. Box 2289, Tripoli, Libya; Khalifa Alzaidi Street, P.O. Box 2289, Tripoli, Libya; E-mail Address edara@eddekharbank.com; Telephone No. (218) 214449306; Telephone No. (218) 214449308; Telephone No. (218) 214449310; Telephone No. (218) 213330434; Telephone No. (218) 213330561; Telephone No. (218) 213331746; Telephone No. (218) 213344631; Telephone No. (218) 213344632; Telephone No. (218) 213344633; Telephone No. (218) 213344634; Fax No. (218) 214449309 [LIBYA2]

16. THE ECONOMIC AND SOCIAL DEVELOPMENT FUND COMPANY (a.k.a. ECONOMIC SOCIAL AND DEVELOPMENT FUND; a.k.a. SOCIAL AND ECONOMIC DEVELOPMENT FUND; a.k.a. “ESDF”), ESDF Building, Qaser Bin Ghasher Road, Salaheddine Cross, Tripoli, Libya; E-mail Address info@esdf.ly; Web-site http://www.esdf.ly; Telephone No. (218) 214908893; Fax No. (218) 214918893; Fax No. (218) 214918894 [LIBYA2]

March 22, 2011 Identifications

1. ARABIAN GULF OIL COMPANY (a.k.a. AGOCO), AGOCO Building, P.O. Box 263, Al Kish, Benghazi, Libya [LIBYA2]

2. AZZAWIYA OIL REFINING COMPANY (a.k.a. AZAWIYA OIL; a.k.a. AZZAWIYA OIL REFINING COMPANY INC; a.k.a. ZAWIA OIL REFINING COMPANY; a.k.a. “ARC”), Azzawiya Oil Refining Building, 45 Km West of Tripoli, Al Harsha Area, Azzawiya, Libya; Azzawiya Oil Refining Building, Al harsha Area, P.O. Box 15715, Az Zawiyah, Libya [LIBYA2]

3. BREGA PETROLEUM MARKETING COMPANY (a.k.a. BPMC; a.k.a. BREGA MARKETING COMPANY), P.O. Box 402, Tripoli, Libya; Coast Road, P.O. Box 16649, Az Zawiyah, Libya; Ben Shatwan Street, P.O. Box 1278, Benghazi, Libya [LIBYA2]

4. HAROUGE OIL OPERATIONS (a.k.a. HAROUGE; f.k.a. VEBA OIL LIBYA GMBH), Al Magharba Street, P.O. Box 690, Tripoli, Libya [LIBYA2]

5. JAMAHIRIYA OIL WELL FLUIDS AND EQUIPMENT (a.k.a. JOWEF OIL TECHNOLOGY; a.k.a. JOWFE; a.k.a. JOWFE CO. FOR OIL TECHNOLOGY; a.k.a. JOWFE OIL TECHNOLOGY COMPANY), Ganfouda area, 15 Km Qaminis Road, P.O. Box 9019, Benghazi, Libya; 15 Km Qaminis Road, Benghazi, Libya [LIBYA2]

6. MEDITERRANEAN OIL SERVICES COMPANY (a.k.a. MEDITERRANEAN SEA OIL SERVICES COMPANY), Bashir El Saadawy Street, P.O. Box 2655, Tripoli, Libya [LIBYA2]

7. MEDITERRANEAN OIL SERVICES GMBH (a.k.a. MED OIL OFFICE DUSSELDORF; a.k.a. MEDOIL), Werdener Str. 8, Dusseldorf, Nordhein-Westfalen 40227, Germany [LIBYA2]

8. NATIONAL OIL FIELDS AND TERMINALS CATERING COMPANY, Airport Road Km 3, Tripoli, Libya [LIBYA2]

9. NATIONAL OIL WELLS DRILLING AND WORKOVER COMPANY (a.k.a. NATIONAL OIL WELLS CHEMICAL AND DRILLING AND WORKOVER EQUIPMENT CO.; a.k.a. NATIONAL OIL WELLS DRILLING AND WORKOVER EQUIPMENT CO.), National Oil Wells Drilling and Workover Company Building, Omar Al Mokhtar Street, P.O. Box 1106, Tripoli, Libya [LIBYA2]

10. NORTH AFRICAN GEOPHYSICAL EXPLORATION COMPANY (a.k.a. NAGECO; a.k.a. NORTH AFRICAN GEOPHYSICAL EXPLORATION), Airport Road, Ben Ghasir 6.7 KM, Tripoli, Libya [LIBYA2]

11. RAS LANUF OIL AND GAS PROCESSING COMPANY (a.k.a. RASCO; a.k.a. RASLANUF OIL AND GAS REFINARY OIL COMPANY), Ras Lanuf Oil and Gas Processing Company Building, P.O. Box 2323, Ras Lanuf City, Libya; P.O. Box 2323, GSPLAJ, Tripoli, Libya; P.O. Box 1971, GSPLAJ, Benghazi, Libya [LIBYA2]

12. SIRTE OIL COMPANY FOR PRODUCTION MANUFACTURING OF OIL AND GAS (a.k.a. SIRTE OIL COMPANY; a.k.a. SIRTE OIL COMPANY (SOC) FOR PRODUCTION MANUFACTURING OF SIRTE OIL COMPANY; a.k.a. SIRTE OIL COMPANY FOR PRODUCTION AND MANUFACTURING OF OIL AND GAS LTD; a.k.a. SOC), Sirte Oil Company Building, Marsa Al Brega Area, P.O. Box 385, Tripoli, Libya [LIBYA2]

13. WAHA OIL COMPANY (a.k.a. OASIS OIL COMPANY; a.k.a. WAHA), Waha Oil Company Building, Airport Road, Al Akwakh Street, P.O. Box 395, Tripoli, Libya [LIBYA2]

14. ZUEITINA OIL COMPANY (a.k.a. ZOC; a.k.a. ZUEITINA), Zueitina Oil Building, Sidi Issa Street, Al Dahra Area, P.O. Box 2134, Tripoli, Libya [LIBYA2]

Adam Szubin,
Director, Office of Foreign Assets Control.

[FR Doc. 2011-10926 Filed 5-4-11; 8:45 am]

BILLING CODE 4811-AL-P